EQUAL EMPLOYMENT OPPORTUNITY COMMISSION

Senior Executive Service Performance Review Board—Appointment of Members

AGENCY: U.S. Equal Employment Opportunity Commission (EEOC).

ACTION: Notice.

SUMMARY: Notice is hereby given of the appointment of members to the Performance Review Board (PRB) of the EEOC.

FOR FURTHER INFORMATION CONTACT: Shelita Aldrich, Director, Operations Services Division, EEOC, 131 M Street NE, Washington, DC 20507, (202) 921-3089.

SUPPLEMENTARY INFORMATION: Publication of the PRB membership is required by 5 U.S.C. 4314(c)(4). The PRB reviews and evaluates the initial appraisal of a senior executive's performance by the supervisor, and makes recommendations to the Chair, EEOC, with respect to performance ratings, pay level adjustments, and performance awards.

The following are the names and titles of executives appointed to serve as members of the Senior Executive Service PRB. Designated members will serve a 12-month term, which begins on November 1, 2021.

PRB Chair

Mr. Kevin Richardson, Chief Human Capital Officer, EEOC

Members

Ms. Julianne Bowman, Director, Chicago District, EEOC

Mr. Carlton Hadden, Director, Office of Federal Operations, EEOC

Mr. Richard Toscano, Director, Equal Employment Opportunity Staff, U.S. Department of Justice

Ms. Veronica Venture, Director, EEO and Diversity, Department of Homeland Security

Ms. Rosa Viramontes, Director, Los Angeles District, EEOC (Alternate)

Ms. Gwendolyn Reams, Associate General Counsel for Litigation Management Services, EEOC (Alternate)

By the direction of the Commission.
Mona Papillon,
Deputy Chief Operating Officer.

[FR Doc. 2021-20062 Filed 9-16-21; 8:45 am]

BILLING CODE 6570-01-P